OFFICE OF MANAGEMENT AND BUDGET

Audits of States, Local Governments, and Non-Profit Organizations; Circular A-133 Compliance Supplement

AGENCY: Executive Office of the President, Office of Management and Budget.

ACTION: Notice of availability of the 2006 Circular A-133 Compliance Supplement.

SUMMARY: This notice announces the availability of the 2006 Circular A-133 Compliance Supplement. The notice also offered interested parties an opportunity to comment on the 2006 Circular A-133 Compliance Supplement. The 2006 Supplement adds three additional programs and one existing program added to existing cluster, deleted two programs, updates for program changes, and makes technical corrections. A list of changes to the 2006 Supplement can be found at Appendix V. Due to its length, the 2006 Supplement is not included in this Notice. See ADDRESSES for information about how to obtain a copy. This Notice also offers interested parties an opportunity to comment on the 2006 Supplement.

DATES: The 2006 Supplement will apply to audits of fiscal years beginning after June 30, 2005 and supersedes the 2004 Supplement and the 2005 Supplement update. All comments on the 2006 Supplement must be in writing and received by October 31, 2006. Late comments will be considered to the extent practicable.

Due to potential delays in OMB's receipt and processing of mail sent through the U.S. Postal Service, we encourage respondents to submit comments electronically to ensure timely receipt. We cannot guarantee that comments mailed will be received before the comment closing date.

Electronic mail comments may be submitted to: Hai_M._Tran@omb.eop.gov. Please include “A-133 Compliance Supplement—2006” in the subject line and the full body of your comments in the text of the electronic message and as an attachment. Please include your name, title, organization, postal address, telephone number, and E-mail address in the text of the message. Comments may also be submitted via facsimile to 202-395-3952.

Comments may be mailed to Gilbert Tran, Office of Federal Financial Management, Office of Management and Budget, Room 6025, New Executive Office Building, Washington, DC 20503.

ADDRESSES: Copies of the 2006 Supplement may be purchased at any Government Printing Office (GPO) bookstore (stock number: 041-001-00629-0). The main GPO bookstore is located at 710 North Capitol Street, NW., Washington, DC 20401, (202) 512-0132. A copy may also be obtained under the Grants Management heading from the OMB home page on the Internet which is located at http://www.omb.gov and then select “Grants Management.”

FOR FURTHER INFORMATION CONTACT: Recipients should contact their cognizant or oversight agency for audit, or Federal awarding agency, as appropriate under the circumstances. Subrecipients should contact their pass-through entity. Federal agencies should contact Gilbert Tran, Office of Management and Budget, Office of Federal Financial Management, telephone (202) 395-3993.

SUPPLEMENTARY INFORMATION: The Office of Management and Budget (OMB) received two comment letters on the 2005 Supplement. The comment letters dealt with various technical issues and changes were made where appropriate.

Linda M. Combs,
Controller.

[FR Doc. E6-6330 Filed 4-26-06; 8:45 am]

BILLING CODE 3110-01-P